DEPARTMENT OF COMMERCE

Foreign-Trade Zones Board

[Docket 43-2005]

Review of Foreign-Trade Zone Activity, Foreign-Trade Subzone 43D, Perrigo Company, Battle Creek, Michigan Area (Ibuprofen-Pharmaceutical Products)

Pursuant to its review of activity related to certain merchandise at Foreign-Trade Subzone 43D, at the pharmaceutical products manufacturing facilities of the Perrigo Company, in the Battle Creek, Michigan, area (FTZ Doc. 43-2005, 70 FR 54521, 9/15/05), the FTZ staff has issued a report containing its preliminary findings.

A copy of the report will be available for public inspection at the following location: Office of the Executive Secretary, Foreign-Trade Zones Board, U.S. Department of Commerce, Room 1115, 1401 Constitution Ave. NW., Washington, DC 20230.

Public comment is invited from interested parties. Information submitted for the record generally should be in a non-proprietary format. If there is a need to submit business proprietary information, it should be appropriately marked and accompanied by a public version. Submissions (original and 3 copies) shall be addressed to the Board's Executive Secretary at the address above.

The closing period for their receipt is August 7, 2006. Rebuttal comments in response to material submitted during the foregoing period may be submitted during the subsequent 15-day period to August 21, 2006.

Dated: June 29, 2006.
Andrew McGilvray,
Acting Executive Secretary.

[FR Doc. E6-10569 Filed 7-5-06; 8:45 am]

BILLING CODE 3510-DS-S